FEDERAL DEPOSIT INSURANCE CORPORATION

Agency Information Collection Activities: Proposed Collection; Comment Request

AGENCY: Federal Deposit Insurance Corporation (FDIC).

ACTION: Notice and request for comment.

SUMMARY: The FDIC, as part of its continuing effort to reduce paperwork and respondent burden, invites the general public and other Federal agencies to take this opportunity to comment on proposed and/or continuing information collections, as required by the Paperwork Reduction Act of 1995 (44 U.S.C. chapter 35). Currently, the FDIC is soliciting comments concerning the following collections of information titled: (1) Fair Housing Lending Monitoring System; (2) Application for Federal Deposit Insurance; (3) Foreign Banks and (4) Foreign Branch Report of Condition.

DATES: Comments must be submitted on or before May 22, 2000.

ADDRESSES: Interested parties are invited to submit written comments to Tamara R. Manly, Management Analyst (Regulatory Analysis), (202) 898-7453, Office of the Executive Secretary, Room F-4058, Attention: Comments/OES, Federal Deposit Insurance Corporation, 550 17th Street N.W., Washington, D.C. 20429. All comments should refer to the OMB control number. Comments may be hand-delivered to the guard station at the rear of the 17th Street Building (located on F Street), on business days between 7 a.m. and 5 p.m. [FAX number (202) 898-3838; Internet address: comments @ fdic.gov].

A copy of the comments may also be submitted to the OMB desk officer for the FDIC: Alexander Hunt, Office of Information and Regulatory Affairs, Office of Management and Budget, New Executive Office Building, Room 3208, Washington, D.C. 20503.

FOR FURTHER INFORMATION CONTACT: Tamara R. Manly, at the address identified above.

SUPPLEMENTARY INFORMATION: Proposal to Renew the Following Currently Approved Collections of Information

1. Title: Fair Housing Lending Monitoring System.

OMB Number: 3064-0046.

Frequency of Response: Annually.

Affected Public: Insured state nonmember banks.

Estimated Number of Respondents: 2,000.

Estimated Number of Loan Applications: 1,000,000.

Estimated Time per Response: 5 minutes.

Estimated Total Annual Burden: 83,333 hours.

General Description of Collection: In order to permit the FDIC to detect discrimination in residential mortgage lending, certain insured state nonmember banks are required by FDIC regulation 12 CFR 338 to maintain various data on home loan applicants.

2. Title: Application for Federal Deposit Insurance.

OMB Number: 3064-0001.

Form Number: 6200/05.

Frequency of Response: On occasion.

Affected Public: All financial institutions.

Estimated Number of Respondents: 200.

Estimated Time per Response: 250 hours.

Estimated Total Annual Burden: 50,000 hours.

General Description of Collection: The Federal Deposit Insurance Act requires a proposed bank or savings institution to apply to the FDIC in order to obtain federal deposit insurance. The form provides the information necessary for the FDIC to make a determination.

3. Title: Foreign Banks.

OMB Number: 3064-0114.

Frequency of Response: On occasion.

Affected Public: Insured branches of foreign banks in the United States.

Estimated Number of Respondents: 418.

Estimated Time per Response: ranges from ¼ hour to 120 hours.

Estimated Total Annual Burden: 4,398 hours.

General Description of Collection: The collection of information consists of (a) applications to operate as a noninsured state-licensed branch of a foreign bank; (b) applications from an insured state-licensed branch of a foreign bank to conduct activities which are not permissible for a federally-licensed branch; (c) internal recordkeeping by insured branches of foreign banks; and (d) reporting requirements relating to an insured branch's pledge of assets to the FDIC.

4. Title: Foreign Branch Report of Condition.

OMB Number: 3064-0011.

Form Number: FFIEC 030.

Frequency of Response: Quarterly/Annually.

Affected Public: Foreign branches of insured banks.

Estimated Number of Respondents: 41.

Estimated Time per Response: 3.25 hours.

Estimated Total Annual Burden: 146 hours.

General Description of Collection: The Foreign Branch Report of Condition, Form FFIEC 030, contains asset and liability information along with data on certain off balance sheet items for foreign branches of insured banks.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's requests to OMB for renewal of this collection. All comments will become a matter of public record.

Federal Deposit Insurance Corporation.
Dated at Washington, DC, this 16th day of March, 2000.
Robert E. Feldman,
Executive Secretary.

[FR Doc. 00-7042 Filed 3-21-00; 8:45 am]

BILLING CODE 6714-01-P